DEPARTMENT OF HEALTH AND HUMAN SERVICES

National Advisory Committee on Seniors and Disasters and National Advisory Committee on Individuals With Disabilities and Disasters Public Meeting

AGENCY: Office of the Assistant Secretary for Preparedness and Response (ASPR), Department of Health and Human Services (HHS).

ACTION: Notice.

SUMMARY: As stipulated by the Federal Advisory Committee Act, the Office of the Assistant Secretary for Preparedness and Response, Department of the Health and Humans Services is hereby giving notice that the National Advisory Committee on Seniors and Disasters (NACSD) and the National Advisory Committee on Individuals with Disabilities and Disasters (NACIDD) will hold public meetings on August 4, 2022.

DATES: The NACSD and the NACIDD will conduct a joint virtual inaugural public meeting on August 4, 2022. The NACSD and the NACIDD will vote on possible recommendations for national public health and medical preparedness, response, and recovery, specific to the needs of older adults and people with disabilities in disasters. A more detailed agenda and meeting registration link will be available on the NACSD and the NACIDD meeting websites which are located at https://www.phe.gov/nacsd and at https://www.phe.gov/nacidd, respectively.

ADDRESSES: Members of the public may attend the meetings via a toll-free phone number or Zoom teleconference, which requires pre-registration. The meeting links to pre-register will be posted on https://www.phe.gov/nacsd and https://www.phe.gov/nacidd. Members of the public may provide written comments or submit questions for consideration by the NACSD and NACIDD at any time via email to NACSD@hhs.gov and NACIDD@hhs.gov, respectively. Members of the public are also encouraged to provide comments after the meeting.

FOR FURTHER INFORMATION CONTACT: Dr. Maxine Kellman, NACSD Designated Officer, 202-260-0447, NACSD@hhs.gov and Tabinda Burney, NACIDD Designated Federal Officer, 202-699-1779, NACIDD@hhs.gov; Office of the Assistant Secretary for Preparedness and Response (ASPR), Department of Health and Human Services (HHS), Washington, DC.

SUPPLEMENTARY INFORMATION: The National Advisory Committee on Seniors and Disaster (NACSD) is required by section 2811B of the Public Health Service Act (42 U.S.C. 300hh-10c), as amended, by the Pandemic and All-Hazards Preparedness and Advancing Innovation Act (PAHPAIA), Public Law 116-22. The NACSD is governed by the provisions of the Federal Advisory Committee Act (FACA), Public Law 92-463, as amended (5 U.S.C. App.), which sets forth standards for the formation and use of advisory committees. The NACSD shall provide advice and consultation to the Secretary of HHS to assist them in carrying out these and related activities as they pertain to the unique needs of older adults in preparation for, responses to, and recovery from all-hazards emergencies and disasters. The Secretary of HHS has formally delegated authority to operate the NACSD to ASPR.

The National Advisory Committee on Individuals with Disabilities and Disasters (NACIDD) is required by section 2811C of the PHS Act (42 U.S.C. 300hh-10d) as amended by the Pandemic and All Hazards Preparedness and Advancing Innovation Act (PAHPAIA) of 2019, Public Law 116-22. The Committee is governed by the provisions of the Federal Advisory Committee Act (FACA) (5 U.S.C. App.) and the General Services Administration FACA Final Rule. The NACIDD shall evaluate issues and programs and provide findings, advice, and recommendations to the Secretary of HHS to support and enhance all-hazards public health and medical preparedness, response, and recovery aimed at meeting the needs of people with disabilities (PWD). The Secretary of HHS has formally delegated authority to operate the NACIDD to ASPR.

The NACSD and the NACIDD invite those who are involved in or represent a relevant industry, academia, profession, organization, or U.S. state, tribal, territorial, or local government to request up to four minutes to address the committees via Zoom. Requests to provide remarks to the NACSD and/or the NACIDD during the public meeting must be sent to NACSD@hhs.gov and/or NACIDD@hhs.gov at least 15 days prior to the meeting along with a brief description of the topic. We would specifically like to request inputs from the public on challenges, opportunities, and strategic priorities for national public health and medical preparedness, response, and recovery specific to the needs of people with disabilities and/or older adults before, during, and after disasters. Presenters who are selected for the public meeting will have audio only for up to four minutes during the meeting. Slides, documents, and other presentation material sent along with the request to speak will be provided to the committee members separately. Please indicate additionally whether the presenter will be willing to take questions from the committee members (at their discretion) immediately following their presentation (for up to four additional minutes).

Dawn O'Connell,
Assistant Secretary for Preparedness and Response.

[FR Doc. 2022-14426 Filed 7-7-22; 8:45 am]

BILLING CODE 4150-37-P